DEPARTMENT OF EDUCATION

National Institute on Disability and Rehabilitation Research (NIDRR)—Disability and Rehabilitation Research Projects and Centers Program—Disability Rehabilitation Research Project (DRRP)—Reducing Obesity and Obesity-Related Secondary Health Conditions Among Adolescents and Young Adults With Disabilities From Diverse Race and Ethnic Backgrounds

Catalog of Federal Domestic Assistance (CFDA) Number: 84.133A-7.

AGENCY: Office of Special Education and Rehabilitative Services, Department of Education.

ACTION: Notice of proposed priority for a DRRP.

SUMMARY: The Assistant Secretary for Special Education and Rehabilitative Services proposes a priority for the Disability and Rehabilitation Research Projects and Centers Program administered by NIDRR. Specifically, this notice proposes a priority for a DRRP. The Assistant Secretary may use this priority for a competition in fiscal year (FY) 2010 and later years. We take this action to focus research attention on areas of national need. We intend this priority to improve rehabilitation services and outcomes for individuals with disabilities.

DATES: We must receive your comments on or before January 14, 2010.

ADDRESSES: Address all comments about this proposed priority to Donna Nangle, U.S. Department of Education, 400 Maryland Avenue, SW., Room 6029, Potomac Center Plaza (PCP), Washington, DC 20202-2700.

If you prefer to send your comments by e-mail, use the following address: donna.nangle@ed.gov. You must include the term “Proposed Priority for a DRRP on Reducing Obesity” in the subject line of your electronic message.

FOR FURTHER INFORMATION CONTACT: Donna Nangle. Telephone: (202) 245-7462 or by e-mail: donna.nangle@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for DRRP competitions in FY 2010 and possibly later years. However, nothing precludes NIDRR from publishing additional priorities, if needed. Furthermore, NIDRR is under no obligation to make an award for this priority. The decision to make an award will be based on the quality of applications received and available funding.

Invitation to Comment: We invite you to submit comments regarding this proposed priority. To ensure that your comments have maximum effect in developing the notice of final priority, we urge you to identify clearly the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this proposed priority in room 6029, 550 12th Street, SW., Potomac Center Plaza, Washington, DC, between the hours of 8:30 a.m. and 4:00 p.m., Washington, DC, time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended.

Program Authority: 29 U.S.C. 762(g) and 764(a).

Applicable Program Regulations: 34 CFR part 350.

Proposed Priority:

This notice contains one proposed priority.

Reducing Obesity and Obesity-Related Secondary Conditions Among Adolescents and Young Adults with Disabilities from Diverse Race and Ethnic Backgrounds.

Background: Obesity continues to be a major public health concern in the United States (U.S.). Overall, the prevalence of obesity in the U.S. doubled among adults between 1980 and 2004. More than a third of adults in the U.S. meet the criteria for obesity (Ogden, et al., 2007). Rates of obesity also increased among children and adolescents from 11 to 17 percent during roughly the same time period (Ogden, et al., 2007).

Recent epidemiological studies indicate significant differences in obesity rates among individuals with and without disabilities (Altman & Bernstein, 2008; Rimmer, Rowland, & Yamaki, 2007; Rimmer & Rowland, 2008a). Approximately one-third of all adults with disabilities were obese compared with only 19 percent of adults without disabilities (Altman & Bernstein, 2008). Children and adolescents with disabilities are also more likely than their non-disabled counterparts to be classified as being overweight. Approximately 30 percent of children between the ages of 6 and 18 who have limitations in walking, crawling, running, and playing are overweight, compared to about 16 percent of children in the same age group who do not have those limitations (Bandini, et al., 2005).

There are also significant and well-documented disparities in obesity prevalence based on race and ethnicity (Altman & Bernstein, 2008; Steinmetz, 2006). For example, in general, a greater percentage of non-Hispanic blacks and Mexican-Americans of all ages are obese compared to non-Hispanic whites (Ogden, et al., 2006).

Despite these documented disparities in obesity prevalence between individuals with and without disabilities, and by race and ethnicity, only a few national studies have examined variations in obesity by the intersection of both disability and minority group status. According to these studies, adults with both disability and race/ethnic minority status have significantly higher rates of obesity compared to individuals with disability or minority group status only, and compared to those with neither disability nor minority status (Jones & Sinclair, 2008). However, none of these studies report data specifically for the cohort of transition-age adolescents and young adults, approximately 15 to 25 years of age. New analyses of extant data are needed to determine whether the patterns that exist for adults similarly exist for adolescents and young adults who have disabilities and are from diverse race/ethnic backgrounds. Filling this knowledge gap, as well as identifying other risk factors for obesity in this population, will allow services and interventions to be targeted to youth with disabilities who are most at risk of obesity or overweight status. Targeting such services and interventions is critical for these adolescents and young adults, as obesity and overweight status generally continue into adulthood where they can restrict health-enhancing activities and jeopardize opportunities for community participation and employment (Rimmer, Rowland, & Yamaki, 2007).

Obesity and overweight status can also have serious health consequences for adolescents and adults with disabilities because they can be precursors to secondary conditions that can complicate treatment of the original disabling condition and undermine functional abilities (Rimmer & Rowland, 2008a; Kinne, Patrick, & Doyle, 2004). Secondary conditions consist of additional physical or mental health conditions that are directly or indirectly related to the primary impairment, and are generally considered preventable (IOM, 2007). Although numerous studies have examined the secondary conditions experienced by adults with disabilities (Kinne et al., 2004; Drum et al., 2005; Rimmer, Rowland & Yamaki, 2007), new research is needed to identify the obesity-related secondary conditions that are most commonly experienced by adolescents and young adults with disabilities, especially those from minority race/ethnic backgrounds. New research on this target population is also needed to highlight variations in risk factors for obesity and obesity-related secondary conditions.

To date, NIDRR's investments in this area have increased awareness of the disparities in obesity and obesity-related secondary conditions between adolescents and adults with and without disabilities (Rimmer, Rowland & Yamaki, 2007; Rimmer & Rowland, 2008b). NIDRR-sponsored researchers have also piloted a new screening tool based on total body fat instead of body mass index (BMI), that more accurately identifies obesity and overweight status (Rimmer & Rowland, 2008a; Rimmer, 2008). The work to be conducted by the DRRP under this priority will build upon these earlier studies by providing more detailed information about the prevalence of obesity, the risk factors for obesity, and the obesity-related secondary conditions that are commonly experienced by adolescents with disabilities from minority race/ethnic backgrounds.

The majority of obesity intervention studies that exist were conducted in controlled, rather than community-based, settings where most or all of the common barriers to participation in health-promoting activities were eliminated (Rimmer & Rowland, 2008a). However, the American Recovery and Reinvestment Act of 2009 provided $650 million to the Centers for Disease Control (CDC), “to carry out evidence-based clinical and community-based prevention and wellness strategies authorized by the Public Health Service Act that deliver specific, measurable health outcomes that address chronic disease rates.” The Department of Health and Human Services (HHS) has developed an initiative in response to the Act. The goal of this initiative—Communities Putting Prevention to Work—is to reduce risk factors and prevent/delay chronic disease and promote wellness in both children and adults. It is not clear to what extent models or practices being implemented by projects such as these have implications for individuals with disabilities. Adequate research is not available related to this area.

New research is needed to identify promising, community-based strategies that are culturally competent and have potential to be effective in reducing obesity and obesity-related secondary conditions among adolescents and young adults with disabilities from minority race/ethnic backgrounds.

References:

Altman, B. & Bernstein, A. (2008). Disability and health in the United States, 2001-2005. Hyattsville, MD., National Center for Health Statistics.

Bandini, L.G., Curtin, C., Hamad, C., Tybor, D.J., & Must, A. (2005). Prevalence of overweight in children with developmental disorders in the continuous national health and nutrition examination survey (NHANES) 1999-2002. Journal of Pediatrics, 146, 738-743.

Drum, C.E., Krahn, G., Culley, C., & Hammond, L. (2005). Recognizing and responding to the health disparities of people with disabilities. Californian Journal of Health Promotion, 3(3), 29-42.

Institute of Medicine (IOM). (2007). The Future of Disability in America. Chapter 5, Secondary Conditions and Aging with Disability. Washington, DC: The National Academies Press.

Jones, G.C. & Sinclair, L.B. (2008). Multiple health disparities among minority adults with mobility limitations: An application of the ICF framework and codes. Disability and Rehabilitation, 30(12-13), 901-915.

Kinne, S., Patrick, D.L., & Doyle, D.L. (2004). Prevalence of Health Disparities among People with Disabilities. American Journal of Public Health, 94(3), 443-445.

Ogden, C.L., Carroll, M.D., McDowell, M.A., & Flegal, K.M. (2007). Obesity among adults in the United States—no change since 2003-2004. NCHS Data Brief No. 1. Hyattsville, MD: National Center for Health Statistics.

Ogden C.L., Carroll, M.D., Curtin, L.R., McDowell, M.A., Tabak, C.J., & Flegal, K.M. (2006). Prevalence of overweight and obesity in the United States, 1999-2004. JAMA 295(13), 1549-1555. Retrieved from www.jama.com.

Rimmer, J.H., Rowland, J.L., & Yamaki, K. (2007). Obesity and Secondary Conditions in Adolescents with Disabilities: Addressing the Needs of an Underserved Population. Journal of Adolescent Health; 41, 224-229.

Rimmer, J.H. & Rowland, J.L. (2008a). Health promotion for people with disabilities: Implications for empowering the person and promoting disability-friendly environments. American Journal of Lifestyle Medicine; 2, 409-420, originally published by Sage online May 22, 2008. Retrieved from http://aji.sagepub.com.

Rimmer, J.H. & Rowland, J.L. (2008b). Physical Activity for youth with disabilities: A critical need in an underserved population. Developmental Neurorehabilitation, April-June, 11(2), 141-148.

Rimmer, J.H. (2008). Promoting inclusive physical activity communities for people with disabilities. President's Council on Physical Fitness and Sports, Research Digest, June/July; Series 9(2).

Steinmetz, E. (2004). Americans with Disabilities: 2002. Current Population Reports, P70-107, U.S. Census Bureau, Washington, DC.

Thorpe, K.E., Florence, C.S., Howard, D.H., and Joski, P. (2004). The Impact of Obesity on the Rise in Medical Spending. Health Affairs, July-December (suppl. web excl.), W4-480-86.

Wolf, A.M., Manson, J.E., Colditz, G.A. (2002). The Economic Impact of Overweight, Obesity and Weight Loss. In: Eckel, R (Editor). Obesity: Mechanisms and Clinical Management. Lippincott, Williams and Wilkins.

Proposed Priority:

The Assistant Secretary for Special Education and Rehabilitative Services proposes a priority for a Disability Rehabilitation Research Project (DRRP) on Reducing Obesity and Obesity-Related Secondary Conditions among Adolescents and Young Adults with Disabilities from Diverse Race and Ethnic Backgrounds. The DRRP must build upon the current research literature on obesity and secondary conditions and examine existing community-based obesity prevention programs such as the programs being implemented by the Centers for Disease Control (CDC) in order to determine whether practices they are implementing hold promise for individuals with disabilities, what modifications to these practices may be necessary, and how individuals with disabilities might be incorporated into community-based programs serving the wider community. Applicants must identify the specific sub-populations of adolescents and young adults they propose to study by type of disability (e.g., physical, sensory, mental) and by race/ethnic background. Under this priority, NIDRR is interested in obesity as a condition that is experienced concomitantly with other disabling conditions, but not as a primary disabling condition. When identifying the specific sub-populations by race/ethnic background, the DRRP must select from three or more of the following categories: non-Hispanic whites, non-Hispanic blacks, American Indians or Alaskan Natives, Asians or Pacific Islanders, and individuals of Hispanic origin.

Under this priority, the DRRP must be designed to contribute to the following outcomes:

(a) Enhanced understanding of the risk factors and health consequences of obesity and overweight status for adolescents and young adults with pre-existing disabilities from diverse race/ethnic backgrounds. The DRRP must contribute to this outcome by conducting analyses of extant data sources to identify variations in rates of obesity and overweight status by race/ethnicity and other risk factors among adolescents and young adults with disabilities approximately 15 to 25 years of age, as well as variations in obesity-related secondary conditions.

(b) New knowledge of promising, community-based and culturally competent practices for reducing obesity and obesity-related secondary conditions among adolescents and young adults with pre-existing disabilities. The DRRP must contribute to this outcome by conducting research to identify the key elements of culturally competent, community-based strategies and programs that show promise toward reducing obesity and overweight status for the specific target populations selected. The DRRP's work in this area is intended to identify potential interventions that can be tested and implemented in the future in community-based settings. Applicants must propose, in their applications, the specific criteria and methods they will use to identify culturally competent and promising community-based strategies and programs.

(c) Increased translation of research findings into practice or policy. The DRRP must contribute to this outcome by:

(1) Collaborating with stakeholder groups (e.g., youth and young adults with disabilities, families, family surrogates, rehabilitation professionals, and public health professionals) to develop, evaluate, or implement strategies to increase utilization of the DRRP's research findings in programs targeted to youth with disabilities; and

(2) Coordinating with existing programs such as those being implemented by the CDC to obtain and share information regarding the applicability of promising practices for individuals with disabilities.

(2) Conducting dissemination activities to increase utilization of the DRRP's research findings.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of costs and benefits:

The benefits of the Disability and Rehabilitation Research Projects and Centers Programs have been well established over the years in that similar projects have been completed successfully. This proposed priority will generate new knowledge through research and development. Another benefit of this proposed priority is that the establishment of a new DRRP will improve the lives of individuals with disabilities. The new DRRP will generate, disseminate, and promote the use of new information that will improve the options for individuals with disabilities to perform regular activities in the community.

Intergovernmental Review

This program is not subject to Executive Order 12372 and the regulations in 34 CFR part 79.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: December 10, 2009.
Alexa Posny,
Assistant Secretary for Special Education and Rehabilitative Services.

[FR Doc. E9-29809 Filed 12-14-09; 8:45 am]

BILLING CODE 4000-01-P